DEPARTMENT OF TRANSPORTATION

Federal Aviation Administration

14 CFR Part 71

[Docket No. FAA-2021-0276; Airspace Docket No. 21-ACE-1]

RIN 2120-AA66

Amendment, Establishment, and Revocation of Multiple Air Traffic Service (ATS) Routes in the Vicinity of Neosho, MO

AGENCY: Federal Aviation Administration (FAA), DOT.

ACTION: Final rule, correction.

SUMMARY: The FAA is correcting the effective date listed and the area navigation (RNAV) routes T-411 and T-413 regulatory text title information formatting listed in the final rule for Docket No. FAA-2021-0276 that published in the Federal Register of January 14, 2022. That final rule amended Jet Route J-181 and VHF Omnidirectional Range (VOR) Federal airways V-13, V-14, V-15, and V-307; established RNAV routes T-411 and T-413; and removed VOR Federal airway V-506 in the vicinity of Neosho, MO. This action reflects the correct final rule effective date and the correct RNAV routes T-411 and T-413 title information formatting.

DATES: The effective date of the final rule published on January 14, 2022 (87 FR 2320) is corrected to March 24, 2022. The Director of the Federal Register approves this incorporation by reference action under 1 CFR part 51, subject to the annual revision of FAA Order JO 7400.11 and publication of conforming amendments.

FOR FURTHER INFORMATION CONTACT: Colby Abbott, Rules and Regulations Group, Office of Policy, Federal Aviation Administration, 800 Independence Avenue SW, Washington, DC 20591; telephone: (202) 267-8783.

SUPPLEMENTARY INFORMATION:

Background

The FAA published a final rule for Docket No. FAA-2021-0276 in the Federal Register (87 FR 2320; January 14, 2022) amending Jet Route J-181 and VOR Federal airways V-13, V-14, V-15, and V-307; establishing RNAV routes T-411 and T-413; and removing VOR Federal airway V-506 in the vicinity of Neosho, MO. Subsequent to publication, it was determined that the effective date published in the final rule incorrectly listed the date as January 27, 2022, and the regulatory text T-411 and T-413 title information formatting in the descriptions was published in all capital letters and did not conform to the FAA Order JO 7400.2 regulatory guidance for RNAV route descriptions. The correct effective date for this action is March 24, 2022, and the correct T-411 and T-413 title information formatting should not be in all capital letters. The corrections are reflected in this final rule correction.

Need for Correction

As published, the final rule contained errors in the effective date listed and the T-411 and T-413 regulatory text title information formatting and require correction. This corrective action is necessary to avoid confusion as to the correct effective date and to publish the new RNAV route descriptions using the correct formatting for that rulemaking, Docket No. FAA-2021-0276.

Correction to Final Rule

Accordingly, pursuant to the authority delegated to me, the effective date and the T-411 and T-413 RNAV route descriptions reflected in Docket No. FAA-2021-0276, as published in the Federal Register of January 14, 2022 (87 FR 2320, FR Doc. 2022-00458), are corrected as follows:

1. In FR Doc. 2022-00458, appearing on page 2320, in the second column, at lines 1 and 2, correct “January 27, 2022” to read “March 24, 2022.”

2. In FR Doc. 2022-00458, appearing on page 2322, in the first column, at line 9, correct “T-411 RAZORBACK, AR (RZC) TO LINCOLN, NE (LNK) [NEW]” to read “T-411 Razorback, AR (RZC) to Lincoln, NE (LNK) [New].”

3. In FR Doc. 2022-00458, appearing on page 2322, in the first column, at line 15, correct “T-413 RAZORBACK, AR (RZC) TO PIERRE, SC (PIR) [NEW]” to read “T-413 Razorback, AR (RZC) to Pierre, SD (PIR) [New].”

Issued in Washington, DC, on January 21, 2022.
Michael R. Beckles,
Manager, Rules and Regulations Group.

[FR Doc. 2022-01360 Filed 1-24-22; 8:45 am]

BILLING CODE 4910-13-P